DEPARTMENT OF DEFENSE

Department of the Navy

Notice of Intent to Grant Exclusive License; Dow Chemical Company

AGENCY: Department of the Navy, DOD.

ACTION: Notice.

SUMMARY: The Department of the Navy hereby gives notice of its intent to grant Dow Chemical Company, a revocable, nonassignable, exclusive license in the United States to practice the Government-Owned inventions described in:

U.S. Patent Number 4,911,902 Mullite Whisker Preparation and U.S. Patent Number 4,948,766 Rigid Mullite Whisker Felt and Method of Preparation.

DATES: Anyone wishing to object to the grant of this license must file written objections along with supporting evidence, if any, not later than September 18, 2000.

ADDRESSES: Written objections are to be filed with Carderock Division, Naval Surface Warfare Center, Code 004, 9500 MacArthur Blvd., West Bethesda, MD 20817-5700.

FOR FURTHER INFORMATION CONTACT: Mr. Dick Bloomquist, Director Technology Transfer, Carderock Division, Naval Surface Warfare Center, Code 0117, 9500 MacArthur Blvd., West Bethesda, MD 20817-5700, telephone (301) 227-4299.

Dated: July 11, 2000.
J.L. Roth,
Lieutenant Commander, Judge Advocate General's Corps, U.S. Navy, Federal Register Liaison Officer.

[FR Doc. 00-18340 Filed 7-19-00; 8:45 am]

BILLING CODE 3810-FF-P